DEPARTMENT OF COMMERCE

International Trade Administration

[A-570-814]

Carbon Steel Butt-Weld Pipe Fittings from the People's Republic of China: Preliminary Determination of No Shipments; 2018-2019

AGENCY: Enforcement and Compliance, International Trade Administration, Department of Commerce.

SUMMARY: The Department of Commerce (Commerce) preliminarily determines that Solidbend Fittings & Flanges Sdn. Bhd. (Solidbend) made no shipments of subject merchandise during the period of review (POR) July 1, 2018 through June 30, 2019. We invite all interested parties to comment on these preliminary results.

DATES: Applicable April 2, 2020.

FOR FURTHER INFORMATION CONTACT: Genevieve Coen, AD/CVD Operations, Office V, Enforcement and Compliance, International Trade Administration, Department of Commerce, 1401 Constitution Avenue NW, Washington, DC 20230; telephone: (202) 482-3251.

SUPPLEMENTARY INFORMATION:

Background

On September 9, 2019, Commerce initiated an administrative review of the antidumping duty order ¹ on carbon steel butt-weld pipe fittings (butt-weld pipe fittings) from the People's Republic of China (China), in accordance with section 751(a) of the Tariff Act of 1930, as amended (the Act), with respect to one company, Solidbend.² On October 9, 2019, Solidbend certified it had no shipments of subject merchandise during the POR.³ On October 18, 2019, we placed United States Customs and Border Protection (CBP) data on the record and invited comment from interested parties.⁴ In December 2019, we confirmed Solidbend's no shipment claim with CBP.⁵ Because Solidbend reported it has no shipments, several parties requested that Commerce rescind its review of Solidbend; ⁶ however, Solidbend did not withdraw its review request, and consistent with our practice, we have not rescinded this review with respect to Solidbend.⁷

¹ See Antidumping Duty Order and Amendment to the Final Determination of Sales at Less Than Fair Value; Certain Carbon Steel Butt-Weld Pipe Fittings from the People's Republic of China, 57 FR 29702 (July 6, 1992) (Order).

² See Initiation of Antidumping and Countervailing Duty Administrative Reviews, 84 FR 47242 (September 9, 2019).

³ See Solidbend's Letter, “Carbon Steel Butt-Weld Pipe Fittings from the People's Republic of China, A-570-814: No Shipment Letter,” dated October 9, 2019 (Solidbend No Shipment Certification).

⁴ See Memorandum, “Administrative Review of the Antidumping Duty Order of Carbon Steel Butt-Weld Pipe Fittings from the People's Republic of China: Release of Customs and Border Protection (CBP) Data Query,” dated October 18, 2019.

⁵ See Memorandum, “Carbon Steel Butt-Weld Pipe Fittings from the People's Republic of China: Result of No Shipments Inquiry,” dated December 10, 2019.

⁶ See Tube Forgings, Mills, and Hackney's Letter, ” Certain Carbon Steel Butt-Weld Pipe Fittings from the People's Republic of China; Comment on Solidbend's No Shipment Letter,” dated October 11, 2019; see also Weldbend's Letter, “Certain Carbon Steel Butt-Weld Pipe Fittings from China: Comments on CBP Data,” dated October 25, 2019.

⁷ See Certain Magnesia Carbon Bricks from the People's Republic of China: Final Results of Antidumping Duty Administrative Review and Final Determination of No Shipments, In Part; 2018-2019, 85 FR 9735 (February 20, 2020) (Magnesia Bricks).

Scope of the Order

The merchandise covered by the Order consists of certain carbon steel butt-weld pipe fittings, having an inside diameter of less than 14 inches, imported in either finished or unfinished form. These formed or forged pipe fittings are used to join sections in piping systems where conditions require permanent, welded connections, as distinguished from fittings based on other fastening methods (e.g., threaded, grooved, or bolted fittings). Carbon steel butt-weld pipe fittings are currently classified under subheading 7307.93.30 of the HTSUS. The HTSUS subheading is provided for convenience and customs purposes. The written product description remains dispositive.

Preliminary Determination of No Shipments

On October 9, 2019, Solidbend timely filed a statement reporting that it made no shipments of subject merchandise to the United States during the POR.⁸ We confirmed the claim from Solidbend with CBP. Based on this information, we preliminarily determine that Solidbend had no shipments during the POR.

⁸ See Solidbend No Shipment Certification.

Consistent with our practice, we are not preliminarily rescinding the review with respect to Solidbend. Rather, we will complete the review with respect to this company and issue appropriate instructions to CBP based on the final results of this review.⁹

⁹ See, e.g., Magnesia Bricks.

Disclosure and Public Comment

Commerce has made no calculations as part of these preliminary results. Accordingly, there will be no disclosure of the calculations performed for these preliminary results of review in accordance with 19 CFR 351.224(b).

Commerce intends to issue the final results of this administrative review no later than 120 days after the date of publication of this notice, unless extended.¹⁰

¹⁰ See section 751(a)(3)(A) of the Act and 19 CFR 351.213(h).

Assessment Rates

Upon completion of this administrative review, Commerce shall determine, and CBP shall assess, antidumping duties on all appropriate entries. Pursuant to Commerce's practice in non-market economy cases, if Commerce continues to determine in the final results that Solidbend had no shipments of subject merchandise, Commerce will liquidate any suspended entries during the POR from Solidbend at the China-wide rate.¹¹ We intend to issue assessment instructions 15 days after the publication date of the final results of this review.

¹¹ For a full discussion of this practice, see Non-Market Economy Antidumping Proceedings: Assessment of Antidumping Duties, 76 FR 65694 (October 24, 2011).

Cash Deposit Requirements

The following cash deposit requirements will be effective for all shipments of the subject merchandise entered, or withdrawn from warehouse, for consumption on or after the publication date of the final results of this administrative review, as provided by section 751(a)(2)(C) of the Act: (1) For previously investigated or reviewed Chinese and non-Chinese exporters not listed above that have separate rates, the cash deposit rate will continue to be the exporter-specific rate published for the most recently-completed segment of this proceeding; (2) the cash deposit rate for all Chinese manufacturers or exporters of subject merchandise will continue to be 182.90 percent, the China-wide rate determined in the less-than-fair-value investigation; (3) for all non-Chinese exporters of subject merchandise that have not received their own rate, the cash deposit rate will be the rate applicable to the Chinese exporter that supplied that non-Chinese exporter.¹² These cash deposit requirements, when imposed, shall remain in effect until further notice.

¹² See Antidumping Duty Order and Amendment to the Final Determination of Sales at Less Than Fair Value; Certain Carbon Steel Butt-Weld Pipe Fittings from the People's Republic of China, 57 FR 29702 (July 6, 1992).

Notification to Importers

This notice also serves as a preliminary reminder to importers of their responsibility under 19 CFR 351.402(f)(2) to file a certificate regarding the reimbursement of antidumping duties prior to liquidation of the relevant entries during this POR. Failure to comply with this requirement could result in Commerce's presumption that reimbursement of antidumping duties occurred and the subsequent assessment of doubled antidumping duties.

Notification Regarding Administrative Protective Order

This notice serves as a preliminary reminder to parties subject to administrative protective order (APO) of their responsibility concerning the disposition of proprietary information disclosed under APO in accordance with 19 CFR 351.305(a)(3). Timely written notification of the return/destruction of APO materials or conversion to judicial protective order is hereby requested. Failure to comply with the regulations and terms of an APO is a sanctionable violation.

Notification to Interested Parties

This administrative review and notice are issued and published in accordance with section 751(a)(1) of the Act.

Dated: March 25, 2020.
Jeffrey I. Kessler,
Assistant Secretary, for Enforcement and Compliance.

[FR Doc. 2020-06907 Filed 4-1-20; 8:45 am]

BILLING CODE 3510-DS-P